DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Date and Time: August 5, 2014 (9:30 a.m.-5:00 p.m.) August 6, 2014 (8:30 a.m.-3:00 p.m.)

Place: Combined In-Person and Webinar Format, Health Resources and Services Administration (HRSA), U.S. Department of Health and Human Services, 5600 Fishers Lane, Room 18-67, Rockville, Maryland 20857.

Status: The meeting will be open to the public.

Purpose: The ACTPCMD provides advice and recommendations on a broad range of issues relating to grant programs authorized by sections 222 and 749 of the Public Health Service Act, as amended by section 5103(d) and re-designated by section 5303 of the Patient Protection and Affordable Care Act of 2010.

Agenda: The meeting will begin with introductions of seven new members to the committee and then move to opening remarks from HRSA senior officials who will provide an update on HRSA's newly created Bureau of Health Workforce. The new members will receive a comprehensive update on the committee's latest 11th Report to Congress, which will focus on the training of health professionals in community settings, the members will then break-out into workgroups and continue development of the report. A short timeline for finalizing the report will be created.

Public Comment: An opportunity will be provided for public comment at the end of each day of the meeting, or written comments to the members may be sent prior to the meeting to Shane Rogers at srogers@hrsa.gov.

The agenda will be available 2 days prior to the meeting on the HRSA Web site (http://www.hrsa.gov/advisorycommittees/bhpradvisory/actpcmd/index.html). Agenda items are subject to change as priorities dictate.

SUPPLEMENTARY INFORMATION: As this meeting will be a combined format of both in-person and webinar, members of the public and interested parties who wish to participate “in-person” should make an immediate request by emailing their first name, last name, and contact email to the Designated Federal Official for the committee, Mr. Shane Rogers, at srogers@hrsa.gov or call (301) 443-5260. Space is limited. Due to the fact that this meeting will be held within a federal government building and public entrance to such facilities require prior planning, access will be granted upon request only and will be on a first come, first served basis. Members of the public who wish to participate via webinar should view the committee's Web site for the specific webinar access information at least 2 days prior to the date of the meeting: http://www.hrsa.gov/advisorycommittees/bhpradvisory/actpcmd/index.html.

FOR FURTHER INFORMATION CONTACT: Mr. Shane Rogers, Designated Federal Official, ACTPCMD, Bureau of Health Workforce, Health Resources and Services Administration, Room 12C-06, Parklawn Building, 5600 Fishers Lane, Rockville, Maryland 20857, call (301) 443-5260, or email srogers@hrsa.gov.

Dated: July 15, 2014.
Jackie Painter,
Acting Director, Division of Policy and Information Coordination.

[FR Doc. 2014-17087 Filed 7-21-14; 8:45 am]

BILLING CODE 4165-15-P